FEDERAL MARITIME COMMISSION

Sunshine Act; Meeting

Agency Holding the Meeting: Federal Maritime Commission.

Federal Register Citation of Previous Announcement: 67 FR 61341.

Previously Announced Time and Date of the meeting: 10 p.m.-October 2, 2002.

Correction: The correct time of the meeting is 10 a.m. not 10 p.m.

Contact Person for More Information: Bryant L. VanBrakle, Secretary, (202) 523-5725.

Bryant L. VanBrakle,
Secretary.

[FR Doc. 02-25364 Filed 10-1-02; 4:18 pm]

BILLING CODE 6730-01-M